DEPARTMENT OF EDUCATION

Privacy Act of 1974; System of Records

AGENCY: Student Financial Assistance, Department of Education.

ACTION: Notice of a new system of records; correction.

SUMMARY: On May 30, 2001, we published in the Federal Register (66 FR 29420) a notice of a new system of records entitled “Student Authentication Network Audit File.” We recently discovered that we inadvertently numbered this system of records “18-11-10.” This notice corrects that number to read “18-11-13.”

Correction

On page 29420, column one, under SUMMARY, and column three, the line before SYSTEM NAME, the number is corrected to read “18-11-13.”

FOR FURTHER INFORMATION CONTACT: Neil Sattler, Office of the Chief Information Officer, U.S. Department of Education, Student Financial Assistance, 400 Maryland Avenue, SW., Portals Building, room 604, Washington, DC 20202-5132. Telephone: (202) 205-4348. If you use a telecommunications device for the deaf (TDD), you may call the Federal Information Relay Service (FIRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html/.

Dated: August 23, 2001.
Greg Woods,
Chief Operating Officer, Student Financial Assistance.

[FR Doc. 01-21766 Filed 8-28-01; 8:45 am]

BILLING CODE 4001-01-U